DEPARTMENT OF THE INTERIOR

National Park Service

Record of Decision; Final Oil and Gas Management Plan/Environmental Impact Statement, Padre Island National Seashore, Texas

ACTION: Notice of Approval of Record of Decision:

SUMMARY: Pursuant to subsection 102(2)(C) of the National Environmental Policy Act of 1969, as amended, and the regulations promulgated by the Council on Environmental Quality (40 CFR 1505.2), the National Park Service, U.S. Department of the Interior, has prepared a Record of Decision on the Final Oil and Gas Management Plan/Environmental Impact Statement for Padre Island National Seashore in Texas.

DATES: The Record of Decision was recommended by the Superintendent of Padre Island National Seashore, concurred in by the Deputy Regional Director, Southwest Cluster of the Intermountain Region, and approved by the Director, Intermountain Region on August 14, 2000.

ADDRESSES: Inquiries regarding the Record of Decision or the Environmental Impact Statement (EIS) should be submitted to the Superintendent, Padre Island National Seashore, P.O. Box 181300, Corpus Christi, Texas 78480-1300, telephone (361) 949-8173, or e-mail to: pais_superintendent@nps.gov. You may also view the entire ROD at the Padre Island NS web site: http://www.nps.gov/pais and click on “In depth.”

SUPPLEMENTARY INFORMATION: The summary of the Record of Decision follows:

The Department of the Interior, National Park Service (NPS), has prepared this Record of Decision (ROD) on the final Environmental Impact Statement (EIS) for the Oil and Gas Management Plan for Padre Island National Seashore, located within Kleberg, Kenedy and Willacy Counties, Texas. This ROD provides a statement of the decision made; a summary description of the 3 alternatives analyzed in the EIS; identification of the environmentally preferable alternative; the decision rationale used in selecting the alternative; a description of mitigation measures and monitoring plans that will be implemented for the selected alternative; and a statement that addresses how all practical means to avoid or minimize environmental harm from the selected alternative have been adopted.

Congress established Padre Island National Seashore on September 28, 1962, 16 U.S.C. 459d et seq., “in order to save and preserve, for purposes of public recreation, benefit, and inspiration, a portion of the diminishing seashore of the United States that remains undeveloped . . .”

At the time of the park's establishment, surface ownership was held by the State of Texas or by private landowners. In 1963, the surface estate owned by the State of Texas was donated to the United States, while those surface rights held by private landowners were acquired by the federal government through condemnation proceedings in 1965 and 1966. Private owners retained all mineral interests underlying the park's terrestrial landbase. Those underlying the submerged lands under the Laguna Madre and Gulf of Mexico were retained by the State of Texas and are administered by the Texas General Land Office. Thus, the federal government does not own any of the subsurface oil and gas rights in the park.

In Padre Island National Seashore's enabling act (16 U.S.C. subsection 459d-3(a) and section 459-4, 4(a) and section 5), Congress authorized the NPS to regulate nonfederal oil and gas development. The NPS recognizes these activities as important to those individuals and entities that have developed or intend to develop nonfederal oil and gas resources underlying the park. The NPS' Nonfederal Oil and Gas Rights Regulations are published at Title 36 of the Code of Federal Regulations, Part 9, Subpart B (36 CFR Part 9B). The 36 CFR Part 9B regulations provide the fundamental regulatory mechanism through which the NPS permits and regulates nonfederal oil and gas operations within units of the National Park System. Many past, present, and future anticipated oil and gas operations, however, have potential to adversely impact park resources, visitor use and experience, and human health and safety, which NPS is required to address.

Public involvement and the 36 CFR Part 9B regulations, in combination with laws, other regulations, NPS policies, executive orders, and applicable direction provided in park planning documents, form the legal and policy requirements that helped to direct and ultimately determine the decision to select Alternative A. These guidelines were also used as fundamental direction and guidance for all of the alternatives considered in the EIS. More in depth discussion of Current Legal and Policy Requirements are described in the EIS, in Chapter 2, Part II, and in Appendices B and C.

The Reasonably Foreseeable Development scenario (RFD) is used to provide a basis to compare and analyze alternatives, and address cumulative effects of the action. The RFD used in the final plan assumes that a 3-D seismic survey would be conducted over the entire Seashore. Following the 3-D seismic survey, full field development of 6 gas fields could result in up to 18 wells being drilled to develop 80 billion cubic feet of natural gas and associated liquid hydrocarbons. This level of exploration and development could utilize up to 748 acres of the terrestrial landbase for seismic exploration, and up to 250 acres of direct surface impacts for drilling and production operations. It is understood that the actual level of exploration and development may be less or greater than projected in the RFD scenario.

During the scoping process on the Draft EIS, the NPS interdisciplinary (ID) team, along with public input, identified resources and values that could be affected by nonfederal oil and gas operations. Park resources, and locations identified as being particularly sensitive to potential adverse impacts from oil and gas operations, and/or necessary to protect resources and values important to the overall legislated purposes of the park, were designated as Sensitive Resource Areas (SRAs). In addition, other topics of concern, such as the effect of future planning decisions on nonfederal oil and gas development, were considered and evaluated in the Oil and Gas Management Plan/EIS. The ID team also developed issue statements to define problems (and benefits) that might occur with oil and gas operations (see FEIS, Chapter 1, pages 1-17 through 1-22).

The issue statements and SRAs were used in the evaluation and selection of Alternative A. The list of SRAs is provided in the final plan (see Chapter 2, page 2-8).

Decision (Selected Action)

This Record of Decision adopts and approves for immediate implementation Alternative A, the (Preferred Alternative). Padre Island National Seashore identified Alternative A as the agency preferred action that best satisfies the park and NPS missions, as well as the park's long-term management objectives. In response to public comments and concerns, Alternative A has been slightly modified from the Preferred Alternative published in the Draft Oil and Gas Management Plan/EIS in February 1999.

From this planning effort, a final plan will be prepared that describes the overall approaches to be implemented over the next 15 to 20 years to manage the exploration and development of nonfederal oil and gas underlying Padre Island National Seashore. It will utilize the ROD, mitigation measures, and existing planning documents to protect natural and cultural resources, visitor use values, and human health and safety concerns. The final plan will serve as a guide for directing geophysical exploration, exploratory drilling, treatment and storage (production), and transportation of nonfederal oil and gas resources in the park. It will also provide pertinent information to oil and gas owners and operators that will facilitate operations planning and compliance with all applicable regulations.

Alternatives Analyzed in the EIS

Three alternatives were evaluated in the EIS.

No Action/Current Management (Alternative B). Alternative B provides a benchmark of existing environmental impacts against which the decision-maker can compare the environmental effects from Alternatives A (Preferred) and C (Maximum Resource Protection for All Sensitive Resource Areas). It describes baseline conditions under the current program of oil and gas management at Padre Island National Seashore. Under Alternative B, all 130,434 acres of the park could be considered for nonfederal oil and gas exploration and development under Current Legal and Policy Requirements.

Identification of sensitive resources and values, and application of mitigation measures specific to the type and scope of operations proposed would be developed during initial scoping meetings between the operator, the NPS, and other interested state and federal agencies, and presented for comment and review at subsequent meetings during the public involvement process. Mitigation measures would be developed and applied, as needed, to comply with Current Legal and Policy Requirements.

Under the No-Action alternative, no comprehensive planning document would be available. Proposed actions would continue to be assessed on a case-by-case basis, and identification of sensitive resources and values, recommended mitigation measures and protection of sensitive resources and values may not be consistently applied. Sensitive resources and values vulnerable to potential adverse impacts from nonfederal oil and gas operations are at greater risk.

Preferred Alternative (Alternative A) (Selected Action). Under Alternative A, Sensitive Resource Areas (SRAs) within Padre Island National Seashore will be formally designated, and specific protection prescribed. SRAs include 4 cultural sites listed or eligible for listing on the National Register of Historic Places, 3 freshwater ponds, the Laguna Madre, wind-tidal flats, visitor use areas, foredunes, washover channels, rookery islands, and 2 relict live oak mottes. Specific protection, tailored to avoid or minimize potential adverse impacts from specific types of oil and gas operations, is applied as operating restrictions to each SRA. Operating restrictions include No Surface Disturbance, No Surface Occupancy, No Surface Access, and Timing Stipulations.

As a mitigation measure, operating restrictions will be applied to the SRAs within designated protective buffers. The maximum acreage of the SRAs is 68,731 acres or 52.7 percent of the park. Specific operating restrictions applied to SRAs will effectively close surface use on 1,316 acres (1.0% of the park) to geophysical (3-D seismic) exploration. Additional closures are described in Table 2.3, pages 2-12—2-15 of the final plan. Where specific types of oil and gas operations could be permitted within SRAs, the requirement to conduct operations “in a manner which utilizes technologically feasible methods least damaging to the federally-owned or controlled lands, waters and resources of the unit while assuring the protection of public health and safety” is a standard requirement.

In areas of the park that are not formally designated as Sensitive Resource Areas, comprising 61,703 acres (47.3% of the park), oil and gas operations will be permitted under Current Legal and Policy Requirements (CLPR).

One error in the Selected Plan, Alternative A, in the Final Oil and Gas Management Plan/EIS (see FEIS, pages S-10 and S-11, and 2-13 and 2-14) is corrected in this ROD. The timing stipulation applied to Rookery Islands is corrected to read: “No Surface Access would be permitted within 1,000 feet of the island edge between February 15 through August 31;” and that “geophysical exploration may be permitted between September 1 through February 14, under CLPR.”

Maximum Resource Protection in All Sensitive Resource Areas, Alternative C. Under this alternative, Sensitive Resource Areas (SRAs) within Padre Island National Seashore would be formally designated, similar to Alternative A. The SRAs, and their maximum protective buffers, would be the same as those designated under Alternative A. Alternative C would provide maximum resource protection to all SRAs by applying a No Surface Access stipulation within SRA protective buffers. This would comprise 68,731 acres (52.7% of the park). Although SRAs would be closed to surface access, underlying nonfederal oil and gas could be reached via directional drilling technology from outside the SRAs. Where SRAs are small, operators could plan geophysical operations around them, and directionally drill underneath them. However, for the geographically large SRAs that include the Laguna Madre and Wind-Tidal Flats, about 58,790 acres would not be accessible. The lack of current or site-specific 3-D seismic data from these areas may deter operators from drilling extended-reach directional wells, and a portion of this acreage may be effectively unavailable for oil and gas development. This could result in moderate to major adverse impacts to oil and gas exploration and development and to owners, operators or lessees.

In areas of the park not designated as SRAs, comprising 61,703 acres (47.3% of the park), oil and gas operations could be permitted under Current Legal and Policy Requirements.

Under all three alternatives, contamination of soils from past and current oil and gas operations are limited to small geographic areas. Because of the risk these contaminants present to wildlife and water quality, the cumulative impact to soils under all alternatives is considered a major adverse impact until the contaminated sites are remediated. Mitigation measures required under Current Legal and Policy Requirements reduce the potential for leaks and spills of oil and gas and contaminating, or hazardous materials, and require cleanup and remediation measures.

Identification of the Environmentally Preferable Alternative

Alternative C is the environmentally preferable alternative. The Council on Environmental Quality (CEQ) has stated, “The environmentally preferable alternative is the alternative that will promote the national environmental policy as expressed in NEPA's Section 101. Generally this means the alternative which causes the least damage to the biological and physical environment. It also means the alternative which best protects, preserves, and enhances historic, cultural, and natural resources.” The No Surface Access operating stipulation applied within maximum SRA protective buffers would close 68,731 acres (52.7% of the park) to all types of oil and gas operations so that there would be no direct impact on these areas from nonfederal oil and gas operations. Therefore, Alternative C would provide maximum protection to park resources and values, human health and safety, and visitor use and enjoyment of those resources.

Decision Rationale Used in Selecting Alternative A

Alternative A is selected for implementation over the environmentally preferable Alternative C because, after careful consideration of public comments throughout the planning process, including comments on the draft EIS, the selected action best accomplishes the legislated purposes of Padre Island National Seashore and balances the statutory mission of the NPS to provide long-term protection to the park's resources and significance, while allowing for the exercise of rights to oil and gas not owned by the United States. The selected Alternative A also best meets the objectives of the Oil and Gas Management Plan/Final Environmental Impact Statement to:

• Identify which park resources and values are most sensitive to oil and gas exploration and development disturbance, and define mitigation requirements to protect such resources and values;

• Establish reasonable oil and gas exploration and development performance standards to protect park resources and values; and

• Provide pertinent information to oil and gas owners and operators that will facilitate operations planning and compliance with all applicable regulations.

The mitigating measures applied through specific operating stipulations for each SRA under Alternative A will increase protection to SRAs over baseline conditions (No Action Alternative B), so that potential adverse impacts are either avoided or reduced to acceptable limits; but will provide less than the maximum protection provided SRAs under Alternative C. Due to the extensive acreage of SRAs where a blanket No Surface Access operating stipulation is applied under Alternative C, a portion of this acreage may be effectively unavailable for oil and gas development. Therefore, the NPS has decided that Alternative A best accomplishes identified planning objectives, with the fewest environmental impacts.

Description of Mitigation Measures and Monitoring Plans for the Selected Alternative A

The NPS will implement the resource protection, mitigation, and monitoring measures found in the selected Alternative A, and described under Current Legal and Policy Requirements (Chapter 2, Part II; and Appendix C) of the final EIS and plan. The operating stipulations applied in Alternative A to Sensitive Resource Areas (SRA) provide specific mitigation measures that result in avoiding or minimizing potential adverse impacts from nonfederal oil and gas operations.

The final location for each well site, production facility, access road, gathering pipeline segment, or other facility will be determined following a site specific environmental document in accordance with the NPS' NEPA policy (Director's Order 12). Development and evaluation of these individual “Plans of Operations”, by the NPS, and with input from interested state, federal agencies, and public involvement, will incorporate existing mitigation measures described here and in the final plan. Additional mitigation measures will be developed to avoid or minimize potential adverse impacts. The park will continue to routinely monitor and inspect nonfederal oil and gas operations to ensure compliance with approved plans of operations, and to protect resources and seashore values. NPS and the operator's personnel will conduct these monitoring inspections to ensure that the mitigation measures are effective and implemented.

Mitigation measures also may include: reclaiming/closing roads and wellpads to restore fish and wildlife habitat; reducing the extent of surface disturbance associated with wellpads, access roads and pipeline corridors (to the extent permitted by safety standards); and maximizing reclamation and restoration success on disturbed lands to improve wildlife habitat wherever reasonably possible.

All practicable means to avoid of minimize environmental impacts from the selected alternative will be adopted and incorporated into the final plan.

Public Involvement

Public comment has been requested, considered, and incorporated throughout the planning process:

• A Notice of Intent to prepare an EIS was published in the Federal Register on June 10, 1997 (Vol. 62, No. 111, pg. 31622), and in newspapers, including the Austin American-Statesmen, the Houston Chronicle, and the Corpus Christi Caller Times.

• The NPS mailed a public scoping newsletter to over 300 individuals, organizations, and government agencies to explain the planning process, provide information, and encourage public participation.

• A public scoping open house was held in Corpus Christi, Texas, on July 9, 1997. During the scoping period, nine comment letters were received, and 13 individuals requested to be added to the mailing list.

• A second newsletter was sent to more than 280 individuals on March 6, 1998, summarizing the results of the scoping open house and the written comments received by the NPS.

• The following state and federal agencies were consulted:

U.S. Fish and Wildlife Service

National Marine Fisheries Service

Texas Parks and Wildlife

Texas State Historic Preservation Officer and Tonkawa Tribe

Texas General Land Office

Texas Coastal Coordination Council.

• A Notice of Availability was published by the NPS in the Federal Register on February 24, 1999 (Vol. 64, No. 36, pg. 9167-9168); and, upon filing of the Draft Oil and Gas Management Plan/EIS.

• The U.S. Environmental Protection Agency (EPA) published a Notice of Availability in the Federal Register on February 26, 1999 (Vol. 64, No. 38, pg. 9508). Fifteen (15) comment letters were received. All substantive comments (62) were addressed in the final EIS.

• The public review period ran from February 26 through May 12, 1999.

• In addition, the document was posted on the Internet at the Padre Island NS web site.

• The Final Oil and Gas Management Plan/EIS was released to the public on February 23, 2000. The EPA Notice of Availability was published in the Federal Register on March 3, 2000 (Vol. 65, No. 43, pg. 11575); the NPS Notice of Availability was published in the Federal Register on March 7, 2000 (Vol. 65, No. 45, pgs. 12029-12030). The final document included a reprint of the 15 comment letters and NPS responses. In response to releasing the Final Oil and Gas Management Plan/EIS, 4 comment letters were received. The comments in the 4 letters raised no new substantive issues.

Dated: August 14, 2000.
John A. King,
Director, Intermountain Region.

[FR Doc. 00-26142 Filed 10-11-00; 8:45 am]

BILLING CODE 4310-70-P